DEPARTMENT OF ENERGY

Federal Energy Regulatory Commission

[Project No. 2246-065—California]

Notice of Revised Environmental Site Review; Yuba County Water Agency

The start time for the July 11, 2018 environmental site review of the Yuba River Development Project, outlined in the June 18, 2018 Notice of Environmental Site Review, has been changed to 8:30 a.m. from 10:00 a.m. (PDT). If you have any questions, please contact Alan Mitchnick at (202) 502-6074 or alan.mitchnick@ferc.gov.

Dated: July 3, 2018.
Kimberly D. Bose,
Secretary.

[FR Doc. 2018-14762 Filed 7-10-18; 8:45 am]

BILLING CODE 6717-01-P